DEPARTMENT OF TRANSPORTATION

Federal Aviation Administration

14 CFR Part 73

[Docket No. FAA-2008-0519; Airspace Docket No. 08-ASO-6]

RIN 2120-AA66

Modification of Restricted Areas R-5314A, B, C, D, E, F, H, and J; and Revocation of Restricted Area R-5314G; Dare County Range, NC

AGENCY: Federal Aviation Administration (FAA), DOT.

ACTION: Final rule.

SUMMARY: This action realigns the internal boundaries and amends the time of designation and using agency title for restricted areas R-5314A, B, C, D, E, and F; amends the time of designation and using agency title for R-5314H and J; and revokes R-5314G. The FAA is taking this action to enhance the safety and operational efficiency of the Dare County Range.

DATES: Effective Date: 0901 UTC, July 31, 2008.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

Restricted Area R-5314 is part of the Dare County Range in North Carolina. R-5314 is divided into nine subareas, designated A, B, C, D, E, F, G, H and J. These subareas support the Air Force Dare bombing range and the Navy Dare bombing range and are used to train aircrews in various tactics such as air-to-ground ordnance delivery and night vision goggle operations. The current layout of R-5314 requires aircrews using the two ranges to share R-5314A and R-5314F. This involves extensive coordination between aircrew and the Range Control Officers at both ranges to deconflict the two operations. The U.S. Air Force requested that the FAA take action to reconfigure the internal alignment and boundaries of R-5314 to better delineate the airspace between the Navy and Air Force ranges. Under the reconfiguration, Air Force Dare users will operate in R-5314A, B, and C, while Navy Dare users will operate in R-5314D, E, and F. The airspace currently designated as R-5314G is subdivided into two areas and redesignated as R-5314C and R-5314F. The designation R-5314G will be revoked. To the east of the newly realigned C and F subareas, the current areas R-5314A, B, C, D, E and F are reconfigured into R-5314A, B, D, and E. This rearranges the location of several subareas within the current restricted area boundaries, but does not alter the existing geographic footprint or altitude floors of the R-5314 complex. The changes will simplify the restricted area layout, enhance range boundary awareness for aircrews, eliminate much of the coordination and deconfliction actions currently required, and thereby enhance the safety and operational efficiency of the Dare County Range. The boundaries for restricted areas R-5314H and J are not being modified by this rule.

The FAA is also modifying the time of designation for all R-5314 subareas by removing the term “intermittent” from the descriptions. The term “intermittent” is used in the time of designation to denote sporadic or irregular use of an area. A review of over five years of utilization data for the Dare County Range shows regular and frequent use of the restricted areas; therefore, the term “intermittent” is inappropriate and is being deleted to more accurately represent actual usage of the areas. Other than removing the term “intermittent,” this change does not alter the current published restricted area time of designation of “0600-2400 local time, Monday-Friday; 0700-1800 local time Saturday-Sunday; other times by NOTAM 6 hours in advance.” The change has no effect on the current or projected use of the Dare County Range restricted areas.

In addition, the name of the using agency for all of the restricted areas is changed to add the military service and correct the using agency name.

The Rule

This action realigns the internal boundaries and layout of restricted areas R-5314A, B, C, D, E and F, and revokes R-5314G. The airspace formerly within R-5314G is further subdivided and redesignated as restricted areas R-5314C and F. The boundaries for R-5314H and J are not modified by this rule and will remain as currently published. This action also removes the term “intermittent” from the time of designation for R-5314A, B, C, D, E, F, H and J. In addition, the name of the using agency for all of the above restricted areas is changed from “Commander, 4th Tactical Fighter Wing” to “U.S. Air Force, Commander, 4th Fighter Wing.” This change adds the name of the military service and corrects the title of the 4th Fighter Wing.

This rule is an administrative change to realign the internal boundaries of existing restricted airspace, update the name of the using agency and correct the time of designation. These changes do not expand restricted airspace beyond the current lateral or vertical boundaries, or increase the available times of use, or alter the activities conducted within the restricted areas. Therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. Under that section, the FAA is charged with prescribing regulations to assign the use of the airspace necessary to ensure the safety of aircraft and the efficient use of airspace. This regulation is within the scope of that authority as it modifies restricted airspace in North Carolina.

Environmental Review

The FAA has reviewed the above referenced action according to Department of Transportation Order 5610.1C, “Procedures for Considering Environmental Impacts” and FAA Order 1050.1E, “Environmental Impacts: Policies and Procedures.” In accordance with FAA Order 1050.1E paragraphs 311d and 401p (5), it is determined that the action qualifies for categorical exclusion from further environmental review. Additionally, the implementation of this action will not result in any extraordinary circumstances in accordance with Order 1050.1E paragraph 304. Therefore, on February 15, 2008, the FAA issued a categorical exclusion declaration for the change in the internal boundaries for R-5314.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.53 [Amended]

2. Section 73.53 is amended as follows:

* * * * *

R-5314A Dare County, NC [Amended]

By removing the current boundaries, time of designation and using agency and substituting the following:

Boundaries. Beginning at lat. 35°42′36″ N., long. 75°49′49″ W.; to lat. 35°40′08″ N., long. 75°50′14″ W.; to lat. 35°40′25″ N., long. 75°52′15″ W.; to lat. 35°38′41″ N., long. 75°52′34″ W.; to lat. 35°39′01″ N., long. 75°54′34″ W.; to lat. 35°40′41″ N., long. 75°54′09″ W.; to lat. 35°41′31″ N., long. 76°00′19″ W.; to lat. 35°44′10″ N., long. 75°59′41″ W.; to the point of beginning.

Time of designation. 0600-2400 local time, Monday-Friday; 0700-1800 local time Saturday-Sunday; other times by NOTAM 6 hours in advance.

Using agency. U.S. Air Force, Commander, 4th Fighter Wing, Seymour Johnson AFB, NC.

* * * * *

R-5314B Dare County, NC [Amended]

By removing the current boundaries, time of designation and using agency and substituting the following:

Boundaries. Beginning at lat. 35°41′52″ N., long. 75°45′11″ W.; to lat. 35°34′41″ N., long. 75°46′49″ W.; to lat. 35°36′46″ N., long. 76°01′19″ W.; to lat. 35°41′31″ N., long. 76°00′19″ W.; to lat. 35°40′41″ N., long. 75°54′09″ W.; to lat. 35°39′01″ N., long. 75°54′34″ W.; to lat. 35°38′41″ N., long. 75°52′34″ W.; to lat. 35°40′25″ N., long. 75°52′15″ W.; to lat. 35°40′08″ N., long. 75°50′14″ W.; to lat. 35°42′36″ N., long. 75°49′49″ W.; to the point of beginning.

Time of designation. 0600-2400 local time, Monday-Friday; 0700-1800 local time Saturday-Sunday; other times by NOTAM 6 hours in advance.

Using agency. U.S. Air Force, Commander, 4th Fighter Wing, Seymour Johnson AFB, NC.

* * * * *

R-5314C Dare County, NC [Amended]

By removing the current boundaries, designated altitudes, time of designation, and using agency and substituting the following:

Boundaries. Beginning at lat. 35°44′10″ N., long. 75°59′41″ W.; to lat. 35°38′55″ N., long. 76°00′52″ W.; to lat. 35°39′21″ N., long. 76°04′59″ W.; to lat. 35°44′48″ N., long. 76°03′44″ W.; to the point of beginning.

Designated altitudes. 200 feet above the surface to 15,000 feet MSL.

Time of designation. 0600-2400 local time, Monday-Friday; 0700-1800 local time Saturday-Sunday; other times by NOTAM 6 hours in advance.

Using agency. U.S. Air Force, Commander, 4th Fighter Wing, Seymour Johnson AFB, NC.

* * * * *

R-5314D Dare County, NC [Amended]

By removing the current boundaries, time of designation and using agency and substituting the following:

Boundaries. Beginning at lat. 35°47′51″ N., long. 75°48′49″ W.; to lat. 35°42′36″ N., long. 75°49′49″ W.; to lat. 35°44′10″ N., long. 75°59′41″ W.; to lat. 35°47′01″ N., long. 75°58′59″ W.; to lat. 35°46′08″ N., long. 75°52′35″ W.; to lat. 35°48′01″ N., long. 75°51′59″ W.; to the point of beginning.

Time of designation. 0600-2400 local time, Monday-Friday; 0700-1800 local time Saturday-Sunday; other times by NOTAM 6 hours in advance.

Using agency. U.S. Air Force, Commander, 4th Fighter Wing, Seymour Johnson AFB, NC.

* * * * *

R-5314E Dare County, NC [Amended]

By removing the current boundaries, designated altitudes, time of designation and using agency and substituting the following:

Boundaries. Beginning at lat. 35°48′31″ N., long. 75°43′39″ W.; to lat. 35°41′52″ N., long. 75°45′11″ W.; to lat. 35°42′36″ N., long. 75°49′49″ W.; to lat. 35°47′51″ N., long. 75°48′49″ W.; to lat. 35°48′01″ N., long. 75°51′59″ W.; to lat. 35°46′08″ N., long. 75°52′35″ W.; to lat. 35°47′01″ N., long. 75°58′59″ W.; to lat. 35°51′36″ N., long. 75°57′54″ W.; to lat. 35°49′31″ N., long. 75°44′59″ W.; to the point of beginning.

Designated altitudes. 500 feet above the surface to FL 205.

Time of designation. 0600-2400 local time, Monday-Friday; 0700-1800 local time Saturday-Sunday; other times by NOTAM 6 hours in advance.

Using agency. U.S. Air Force, Commander, 4th Fighter Wing, Seymour Johnson AFB, NC.

* * * * *

R-5314F Dare County, NC [Amended]

By removing the current boundaries, designated altitudes, time of designation and using agency and substituting the following:

Boundaries. Beginning at lat. 35°51′36″ N., long. 75°57′54″ W.; to lat. 35°44′10″ N., long. 75°59′41″ W.; to lat. 35°44′48″ N., long. 76°03′44″ W.; to lat. 35°51′53″ N., long. 76°02′08″ W.; to the point of beginning.

Designated altitudes. 200 feet above the surface to 15,000 feet MSL.

Time of designation. 0600-2400 local time, Monday-Friday; 0700-1800 local time Saturday-Sunday; other times by NOTAM 6 hours in advance.

Using agency. U.S. Air Force, Commander, 4th Fighter Wing, Seymour Johnson AFB, NC.

* * * * *

R-5314G Dare County, NC [Removed]

* * * * *

R-5314H Dare County, NC [Amended]

By removing the current time of designation and using agency and substituting the following:

Time of designation. 0600-2400 local time, Monday-Friday; 0700-1800 local time Saturday-Sunday; other times by NOTAM 6 hours in advance.

Using agency. U.S. Air Force, Commander, 4th Fighter Wing, Seymour Johnson AFB, NC.

* * * * *

R-5314J Dare County, NC [Amended]

By removing the current time of designation and using agency and substituting the following:

Time of designation. 0600-2400 local time, Monday-Friday; 0700-1800 local time Saturday-Sunday; other times by NOTAM 6 hours in advance.

Using agency. U.S. Air Force, Commander, 4th Fighter Wing, Seymour Johnson AFB, NC.

* * * * *

Issued in Washington, DC on May 22, 2008.
Stephen L. Rohring,
Acting Manager, Airspace and Rules Group.

[FR Doc. E8-11975 Filed 5-28-08; 8:45 am]

BILLING CODE 4910-13-P